DEPARTMENT OF JUSTICE

Notice of Lodging of Consent Decrees Under the Comprehensive Environmental Response, Compensation, and Liability Act

Notice is hereby given that on March 24, 2000, a proposed consent decree in United States v. Azrael et al., Action No. WN-89-2898 (D. Md.) was lodged with the United States District Court for the District of Maryland.

In this action, the United States is recovering past and future response costs, pursuant to the Comprehensive Environmental Response, Compensation, and Liability Act (“CERCLA”), 42 U.S.C. 9601 et seq. in connection with the Kane and Lombard Superfund Site (“Site”), located in Baltimore, Maryland.

The consent decree that was lodged would resolve the United States' claims against J.W. Parker & Sons (“Parker”). Parker will pay to the United States $82,200, over two years, including interest, and $54,800, over two years, including interest, to the State of Maryland to resolve claims against it.

The consent decree includes covenants not to sue by the United States under Section 107 of CERCLA.

The Department of Justice will receive for a period of thirty (30) days from the date of this publication comments relating to the proposed consent decree. Comments should be addressed to the Assistant Attorney General of the Environment and Natural Resources Division, P.O. Box 7611, U.S. Department of Justice, Washington, DC 20044, and should refer to United States v. Azrael, D.J. Ref. 90-11-2-299.

The proposed consent decree may be examined at the Office of the United States Attorney, 101 W. Lombard St., Baltimore, Maryland 21201 and at U.S. EPA Region III, 1650 Arch Street, Philadelphia, Pennsylvania 19103-2029. A copy of the consent decree may also be obtained by mail from the Consent Decree Library, P.O. Box 7611, U.S. Department of Justice, Washington, DC 20044-7611. In requesting a copy, please enclose a check in the amount of $13.25 (25 cents per page reproduction cost) payable to the Consent Decree Library.

Walker B. Smith,
Deputy Chief, Environmental Enforcement Section, Environment and Natural Resources Division.

[FR Doc. 00-9154 Filed 4-12-00; 8:45 am]

BILLING CODE 4410-15-M